DEPARTMENT OF COMMERCE

National Oceanic and Atmospheric Administration

[RTID 0648-XE172]

Pacific Island Fisheries; Marine Conservation Plan for American Samoa; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for American Samoa.

DATES: This agency decision is effective from August 30, 2024 through July 24, 2027.

ADDRESSES: You may obtain a copy of the MCP, identified by NOAA-NMFS-2024-0093, from the Federal e-Rulemaking Portal, https://www.regulations.gov/docket/NOAA-NMFS-2024-0093, or from the Western Pacific Fishery Management Council (Council), 1164 Bishop St., Suite 1400, Honolulu, HI 96813, 808-522-8220, http://www.wpcouncil.org.

FOR FURTHER INFORMATION CONTACT: Keith Kamikawa, Sustainable Fisheries, NMFS Pacific Islands Regional Office, 808-725-5177.

SUPPLEMENTARY INFORMATION: The Government of American Samoa developed the MCP, with concurrence of the Western Pacific Fishery Management Council. Section 204(e)(4) of the Magnuson-Stevens Fishery Conservation and Management Act (Magnuson-Stevens Act) requires that a MCP detail the uses for funds to be collected by the Secretary of Commerce. Funds deposited into the Western Pacific Sustainable Fisheries Fund, including payments under a Pacific Insular Area Fishery Agreement and other contributions, may be used to implement the conservation and management objectives in the MCP. The MCP must be consistent with the Council's fishery management (ecosystem) plans, identify conservation and management objectives (including criteria for determining when such objectives have been met), and prioritize planned marine conservation projects.

At its June 2024 meeting, the Council reviewed and concurred with the MCP. On June 21, 2024, the Governor of American Samoa submitted the MCP to NMFS for review and approval. The MCP contains the following six conservation and management objectives:

1. Maximize social and economic benefits through sustainable fisheries;

2. Support quality scientific research to assess and manage fisheries;

3. Promote an ecosystem approach in fisheries management;

4. Recognize the importance of island culture and traditional fishing in managing fishery resources and foster opportunities for participation;

5. Promote education and outreach activities and regional collaboration regarding fisheries conservation;

6. Encourage development of technologies and methods to achieve the most effective level of enforcement and to ensure safety at sea.

Please refer to the MCP for projects and activities designed to meet each objective, the evaluative criteria, and priority rankings.

This notice announces that NMFS has reviewed the MCP and determined that it satisfies the requirements of the Magnuson-Stevens Act. Accordingly, NMFS has approved the MCP for the time period from the publication of this notice through July 24, 2027. This MCP supersedes the one approved for July 25, 2021 through July 24, 2024 (86 FR 42792).

Dated: August 26, 2024.
Lindsay Fullenkamp,
Acting Director, Office of Sustainable Fisheries, National Marine Fisheries Service.

[FR Doc. 2024-19487 Filed 8-29-24; 8:45 am]

BILLING CODE 3510-22-P